NUCLEAR REGULATORY COMMISSION

[Docket No. 50-293; NRC-2018-0286]

Entergy Nuclear Operations, Inc.; Pilgrim Nuclear Power Station

AGENCY: Nuclear Regulatory Commission.

ACTION: Notice of receipt; public meeting; and request for comment.

SUMMARY: On November 16, 2018, the U.S. Nuclear Regulatory Commission (NRC) received the Post-Shutdown Decommissioning Activities Report (PSDAR) for the Pilgrim Nuclear Power Station (Pilgrim). The PSDAR, which includes the Site-Specific Decommissioning Cost Estimate (DCE), provides an overview of the Entergy Nuclear Operations, Inc. (Entergy, the licensee) planned decommissioning activities, schedule, projected costs, and environmental impacts for Pilgrim. The NRC will hold a public meeting to discuss the PSDAR and the DCE and receive comments.

DATES: Submit comments by March 21, 2019. Comments received after this date will be considered if it is practical to do so, but the NRC is able to ensure consideration only for comments received before this date.

ADDRESSES: You may submit comments by any of the following methods:

• Federal Rulemaking Website: Go to http://www.regulations.gov and search for Docket ID: NRC-2018-0286. Address questions about Docket IDs in Regulations.gov to Krupskaya Castellon; telephone: 301-287-9221; email: Krupskaya.Castellon@nrc.gov. For technical questions, contact the individual listed in the FOR FURTHER INFORMATION CONTACT section of this document.

• Mail comments to: May Ma, Office of Administration, Mail Stop: TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: John G. Lamb, Office of Nuclear Reactor Regulation, U.S. Nuclear Regulatory Commission, Washington DC 20555-0001, telephone: 301-415-3100; email: John.Lamb@nrc.gov.

SUPPLEMENTARY INFORMATION:

I. Obtaining Information and Submitting Comments

A. Obtaining Information

Please refer to Docket ID NRC-2018-0286 when contacting the NRC about the availability of information for this action. You may obtain publicly-available information related to this action by any of the following methods:

• Federal Rulemaking Website: Go to http://www.regulations.gov and search for Docket ID NRC-2018-0286.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that document is mentioned in this document.

• NRC's PDR: You may examine and purchase copies of public documents at the NRC's PDR, Room O1-F21, One White Flint North, 11555 Rockville Pike, Rockville, Maryland 20852.

B. Submitting Comments

Please include Docket ID NRC-2018-0286 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

Entergy is the holder of Renewed Facility Operating License No. DPR-35 for Pilgrim. The license provides, among other things, that the facility is subject to all rules, regulations, and orders of the NRC now or hereafter in effect. The facility consists of one boiling-water reactor located in Plymouth, Massachusetts. By letter dated November 10, 2015 (ADAMS Accession No. ML15328A053), the licensee submitted Notification of Permanent Cessation of Power Operations for Pilgrim. In this letter, Entergy notified the NRC of its intent to permanently cease operations at Pilgrim no later than June 1, 2019.

On November 16, 2018, Entergy submitted the PSDAR including and the DCE for Pilgrim in accordance with § 50.82(a)(4)(i) of Title 10 of the Code of Federal Regulations (ADAMS Accession No. ML18320A034). The PSDAR includes a description of the planned decommissioning activities, a proposed schedule for their accomplishment, the DCE, and a discussion that provides the basis for concluding that the environmental impacts associated with the site-specific decommissioning activities will be bounded by appropriate, previously issued generic and plant-specific environmental impact statements.

III. Request for Comment and Public Meeting

The NRC is requesting public comments on the PSDAR including the DCE for Pilgrim. The NRC will conduct a public meeting to discuss the PSDAR including the DCE and receive comments on Tuesday, January 15, 2019, from 6 p.m. until 9 p.m., at the Hotel 1620, 180 Water Street, Plymouth, Massachusetts 02360. The NRC requests that comments that are not provided during the meeting be submitted as noted in section I, “Obtaining Information and Submitting Comments” of this document in writing by March 21, 2019.

Dated at Rockville, Maryland, this 18th day of December 2018.
For the Nuclear Regulatory Commission.
Douglas A. Broaddus,
Chief, Special Projects and Process Branch, Division of Operating Reactor Licensing, Office of Nuclear Reactor Regulation.

[FR Doc. 2018-27724 Filed 12-20-18; 8:45 am]

BILLING CODE 7590-01-P